NUCLEAR REGULATORY COMMISSION

Sunshine Act Meeting

DATES: Weeks of October 7, 14, 21, 28, November 4, 11, 2002.

PLACE: Commissioners' Conference Room, 11555 Rockville Pike, Rockville, Maryland.

STATUS: Public and Closed.

MATTERS TO BE CONSIDERED:

Week of October 7, 2002

There are no meetings scheduled for the Week of October 7, 2002.

Week of October 14, 2002—Tentative

There are no meetings scheduled for the Week of October 14, 2002.

Week of October 21, 2002—Tentative

There are no meetings scheduled for the Week of October 21, 2002.

Week of October 28, 2002—Tentative

Wednesday, October 30, 2002

2 p.m.

Discussion of Security issues (Closed—Ex. 1 & 9)

Thursday, October 31, 2002

9:25 a.m.

Affirmation Session (Public Meeting) (If needed)

9:30 a.m.

Briefing on EEO Program (Public Meeting)

2:30 p.m.

Briefing on Proposed Rulemaking to Add New Section 10 CFR 50.69, “Risk-Informed Categorization and Treatment of Structures, Systems, and Components for Nuclear Power Reactors” (Public Meeting)

This meeting will be webcast live at the Web address http://www.nrc.gov.

Week of November 4, 2002—Tentative

There are no meetings scheduled for the Week of November 4, 2002.

Week of November 11, 2002—Tentative

There are no meetings scheduled for the Week of November 11, 2002.

The schedule for Commission meetings is subject to change on short notice. To verify the status of meetings call (recording)—(301) 415-1292.

Contact person for more information: R. Michelle Schroll (301) 415-1662.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 3, 2002.
R. Michelle Schroll,
Acting Technical Coordinator, Office of the Secretary.

[FR Doc. 02-25656 Filed 10-4-02; 10:48 am]

BILLING CODE 7590-01-M